DEPARTMENT OF STATE

[Public Notice: 9646]

30-Day Notice of Proposed Information Collection: Electronic Diversity Visa Entry Form

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to August 22, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Andrea Lage, who may be reached at PRA_BurdenComments@state.gov.

SUPPLEMENTARY INFORMATION:

• Title of Information Collection: Electronic Diversity Visa Entry Form

• OMB Control Number: 1405-0153

• Type of Request: Extension of Currently Approved Collection

• Originating Office: CA/VO/L/R

• Form Number: DS-5501

• Respondents: Diversity Visa Registrants

• Estimated Number of Respondents: 11,072,400

• Estimated Number of Responses: 11,072,400

• Average Time Per Response: 30 minutes

• Total Estimated Burden Time: 5,536,200 hours

• Frequency: Annually

• Obligation to Respond: Required to Obtain or Retain a Benefit

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department of State utilizes the Electronic Diversity Visa Lottery (EDV) Entry Form to elicit information necessary to ascertain the applicability of the legal provisions of the diversity immigrant visa program. The 2 primary requirements are: the applicant is from a low admission country and is a high school graduate, or has two years of experience in a job that requires two years of training. The foreign nationals complete the electronic entry forms and then applications are randomly selected for further participation in the program. Department of State regulations pertaining to diversity immigrant visas under the INA are published in 22 CFR 42.33.

Methodology

The EDV Entry Form is available online at www.dvlottery.state.gov and can only be submitted electronically during the annual registration period.

Dated: June 24, 2016.
Edward Ramotowski,
Deputy Assistant Secretary, Bureau of Consular Affairs, Department of State.

[FR Doc. 2016-17399 Filed 7-21-16; 8:45 am]

BILLING CODE 4710-06-P